ENVIRONMENTAL PROTECTION AGENCY

40 CFR Part 228

[EPA-R04-OW-2020-0056; FRL-10009-50-Region 4]

Ocean Dumping: Reopening of Comment Period for Modification of an Ocean Dredged Material Disposal Site Offshore of Port Everglades, Florida

AGENCY: Environmental Protection Agency (EPA).

ACTION: Reopening of public comment period for proposed rule.

SUMMARY: The Environmental Protection Agency (EPA) is reopening the comment period for a proposed rulemaking notice published in the Federal Register on March 13, 2020, which proposed modification of the existing EPA designated ocean dredged material disposal site (ODMDS) offshore of Port Everglades, Florida (referred to hereafter as the existing Port Everglades ODMDS) pursuant to the Marine Protection, Research and Sanctuaries Act, as amended (MPRSA). The primary purpose for the site modification is to enlarge the ODMDS to serve the long-term need for a location to dispose of suitable material dredged from the Port Everglades Harbor and for the disposal of suitable dredged material for persons who receive a MPRSA permit for such disposal. The modified ODMDS will be subject to monitoring and management to ensure continued protection of the marine environment.

DATES: Comments on the proposed rule published on March 13, 2020 (85 FR 14622) must be received on or before June 22, 2020.

ADDRESSES: Submit your comments, identified by Docket ID No. EPA-R04-OW-2020-0056, by one of the following methods:

• www.regulations.gov: Follow the on-line instructions for submitting comments and accessing the docket and materials related to this proposed rule.

• Email: OceanDumpingR4@epa.gov.

• Mail: Wade Lehmann, U.S. Environmental Protection Agency, Region 4, Water Division, Oceans and Estuarine Management Section, 61 Forsyth Street, Atlanta, Georgia 30303.

Instructions: Direct your comments to Docket ID No. EPA-R04-OW-2020-0056. The EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov website is an “anonymous access” system, which means the EPA will not know your identity or contact information unless you provide it in the body of your comment. If you send an email comment directly to the EPA without going through www.regulations.gov, your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit the EPA Docket Center homepage at http://www.epa.gov/epahome/dockets.htm.

Docket: Publicly available docket materials are available either electronically at www.regulations.gov or in hard copy during normal business hours from the regional library at the EPA, Region 4 Library, 9th Floor, 61 Forsyth Street, Atlanta, Georgia 30303. For access to the documents at the Region 4 Library, contact the Region 4 Library Reference Desk at (404) 562-8190, between the hours of 9:00 a.m. to 12:00 p.m., and between the hours of 1:00 p.m. to 4:00 p.m., Monday through Friday, excluding Federal holidays, for an appointment.

FOR FURTHER INFORMATION CONTACT: Wade Lehmann, U.S. Environmental Protection Agency, Region 4, Water Division, Oceans and Estuarine Management Section, 61 Forsyth Street, Atlanta, Georgia 30303; phone number (404) 562-8082; email: Lehmann.Wade@epa.gov.

SUPPLEMENTARY INFORMATION: The EPA published a proposed rulemaking on March 13, 2020 (85 FR 14622), which was a proposal to expand the Port Everglades ODMDS. Additionally, the EPA released on March 13, 2020, and will re-release concurrent with this notice, a draft Environmental Assessment (EA) including a draft Site Monitoring and Management Plan (appendix to the EA) for comment. The draft EA is available on the EPA Region 4 web page, which may be accessed at: https://www.epa.gov/aboutepa/about-epa-region-4-southeast#Public%20Notices. The EPA is reopening the comment period for an additional 30 days on all associated documents.

List of Subjects in 40 CFR Part 228

Environmental protection, Water pollution control.

Authority: This action is issued under the authority of Section 102 of the Marine Protection, Research, and Sanctuaries Act, as amended, 33 U.S.C. 1412.

Mary Walker,
Regional Administrator, EPA Region 4.

[FR Doc. 2020-10588 Filed 5-21-20; 8:45 am]

BILLING CODE 6560-50-P